DEPARTMENT OF DEFENSE

Department of the Army

Intent To Grant an Exclusive License of U.S. Government-Owned Patents

AGENCY: Department of the Army, DoD.

ACTION: Notice.

SUMMARY: In accordance with 35 U.S.C. 209 (e) and 37 CFR 404.7 (a)(1)(i), announcement is made of the intent to grant an exclusive, royalty-bearing, revocable license to US Patent Application 14/500,084, filed September 29, 2014, entitled, “A mechanical tourniquet apparatus and method of use” and US Patent Application 14/500,191, filed September 29, 2014, entitled, “A pneumatic tourniquet apparatus and method of use” and PCT Patent Application PCT/US2014/058079, filed September 29, 2014, entitled, “A mechanical tourniquet apparatus and method of use” and PCT Patent Application PCT/US2014/058098, filed September 29, 2014, entitled, “A pneumatic tourniquet apparatus and method of use” to Alphapointe, a non-profit corporation, having a principal place of business at 7501 Prospect, Kansas City, MO 64132.

ADDRESSES: Commander, U.S. Army Medical Research and Materiel Command, ATTN: Command Judge Advocate, MCMR-JA, 504 Scott Street, Fort Detrick, MD 21702-5012.

FOR FURTHER INFORMATION CONTACT: For licensing issues, Mr. Barry Datlof, Office of Research & Technology Assessment, (301) 619-0033. For patent issues, Ms. Elizabeth Arwine, Patent Attorney, (301) 619-7808, both at telefax (301) 619-5034.

SUPPLEMENTARY INFORMATION: Anyone wishing to object to the grant of this license can file written objections along with supporting evidence, if any, within 15 days from the date of this publication. Written objections are to be filed with the Command Judge Advocate (see ADDRESSES).

Brenda S. Bowen,
Army Federal Register Liaison Officer.

[FR Doc. 2015-17761 Filed 7-20-15; 8:45 am]

BILLING CODE 3710-08-P